DEPARTMENT OF ENERGY

Federal Energy Regulatory Commission

Combined Notice of Filings #1

November 5, 2009.

Take notice that the Commission received the following electric corporate filings:

Docket Numbers: EC10-13-000.

Applicants: PacifiCorp.

Description: Application of PacifiCorp for Approval of Acquisition of Jurisdictional Asset under Section 203 of the FPA.

Filed Date: 10/30/2009.

Accession Number: 20091030-5103.

Comment Date: 5 p.m. Eastern Time on Friday, November 20, 2009.

Take notice that the Commission received the following electric rate filings:

Docket Numbers: ER98-421-021; ER98-4055-018; ER01-1337-013; ER05-1375-003; ER07-188-008; ER07-189-007; ER07-190-007; ER07-191-008; ER09-655-001; ER99-2774-018; ER08-1069-001; ER08-771-002; ER09-1605-002; ER03-1212-012; ER10-80-001.

Applicants: CinCap IV, LLC; CinCap V, LLC; Cinergy Capital & Trading, Inc.; Cinergy Power Investments, Inc.; Duke Energy Carolinas, LLC; Duke Energy Indiana, Inc.; Duke Energy Kentucky, Inc.; Duke Energy Ohio, Inc.; Duke Energy Retail Sales, LLC; Duke Energy Trading and Marketing, LLC; Happy Jack Windpower, LLC; North Allegheny Wind, LLC; Silver Sage Windpower, LLC; St. Paul Cogeneration, LLC; Three Buttes Windpower, LLC.

Description: Duke Energy Corp submits Change in Status.

Filed Date: 10/30/2009.

Accession Number: 20091104-0003.

Comment Date: 5 p.m. Eastern Time on Friday, November 20, 2009.

Docket Numbers: ER99-2161-010; ER99-3000-009; ER02-1572-008; ER02-1571-008; ER99-1115-013; ER99-1116-013; ER00-2810-008; ER99-4359-007; ER99-4358-007; ER99-2168-010; ER98-1127-013; ER07-649-003; ER09-1300-001; ER09-1301-001; ER99-2162-010; ER00-2807-008; ER00-2809-008; ER98-1796-012; ER07-1406-004; ER00-1259-010; ER99-4355-007; ER99-4356-007; ER00-3160-011; ER99-4357-007; ER00-2313-009; ER02-2032-007; ER97-4281-021; ER02-1396-007; ER02-1412-007; ER00-3718-009; ER99-3637-008; ER07-486-004; ER99-1712-010; ER00-2808-009; ER00-3160-012.

Applicants: Arthur Kill Power LLC; Astoria Gas Turbine Power LLC; Bayou Cove Peaking Power LLC; Big Cajun I Peaking Power LLC; Cabrillo Power I LLC; Cabrillo Power II LLC; Conemaugh Power LLC; Connecticut Jet Power LLC; Devon Power LLC; Dunkirk Power LLC; El Segundo Power, LLC; EL Segundo Power II LLC; GenConn Devon, LLC; GenConn Middletown LLC; Huntley Power LLC; Indian River Power LLC; Keystone Power LLC; Long Beach Generation LLC; Long Beach Peakers LLC; Louisiana Generating LLC; Middletown Power LLC; Montville Power LLC; NEO Freehold-Gen LLC; Norwalk Power LLC; NRG Energy Center Paxton LLC; NRG New Jersey Energy Sales LLC; NRG Power Marketing LLC; NRG Rockford LLC; NRG Rockford II LLC; NRG Sterlington Power LLC; Oswego Harbor Power LLC; Saguaro Power Company, A Limited Partnership; Somerset Power LLC; Vienna Power LLC.

Description: Report of NRG Energy, Inc.

Filed Date: 10/30/2009.

Accession Number: 20091030-5173.

Comment Date: 5 p.m. Eastern Time on Friday, November 20, 2009.

Docket Numbers: ER02-1052-012; ER07-1000-004; ER96-1947-026.

Applicants: Las Vegas Power Company, LLC, LS Power Marketing, LLC, West Georgia Generating Company, LLC.

Description: Quarterly Report for the Third Quarter of 2009 of LS Power Marketing, LLC, et al.

Filed Date: 10/30/2009.

Accession Number: 20091030-5115.

Comment Date: 5 p.m. Eastern Time on Friday, November 20, 2009.

Docket Numbers: ER02-1695-007; ER02-2309-006.

Applicants: Cabazon Wind Partners, LLC, Whitewater Hill Wind Partners, LLC.

Description: Cabazon Wind Partners, LLC, et al. Notice of Change in Status Sites for New Generation Capacity Development.

Filed Date: 10/30/2009.

Accession Number: 20091030-5117.

Comment Date: 5 p.m. Eastern Time on Friday, November 20, 2009.

Docket Numbers: ER06-220-003; ER09-1677-002; ER06-686-003; ER06-215-003; ER96-2652-058; ER99-4228-011; ER99-4229-011; ER99-4231-010; ER99-852-012; ER08-589-003; ER08-1397-001; ER99-666-008; ER08-293-003; ER06-222-003; ER09-712-001; ER06-225-003; ER07-1138-002; ER06-223-003; ER08-297-003; ER06-736-001; ER99-3693-007; ER08-650-001-ER08-692-001; ER05-1389-004; ER06-221-003; ER07-645-001; ER02-2263-009; ER05-1282-003; ER06-224-003; ER08-337-004; ER07-301-001; ER01-2217-007; ER08-931-003.

Applicants: Bendwind, LLC, Big Sky Wind, LLC, DeGreeff DP, LLC, DeGreeffpa, LLC, CL Power Sales Eight, LLC, CP Power Sales Nineteen, LLC, CP Power Sales Seventeen, LLC, CP Power Sales Twenty, LLC, Edison Mission Marketing & Trading, Inc., Edison Mission Solutions, LLC, Elkhorn Ridge Wind, LLC, EME Homer City Generation, L.P., Forward Windpower, LLC, Groen Wind, LLC, High Lonesome Mesa, LLC, Hillcrest Wind, LLC, Jeffers Wind 20, LLC, Larswind, LLC, Lookout Windpower, LLC, Midwaysunset Cogeneration CO, Midwest Generation, LLC, Mountain Wind Power, LLC, Mountain Wind Power II, LLC, San Juan Mesa Wind Project, LLC, Sierra Wind, LLC, Sleeping Bear, LLC, Southern California Edison Company, Storm Lake Power Partners I LLC, Sunrise Power Company, LLC; TAIR Windfarm, LLC; Walnut Creek Energy, LLC; Watson Cogeneration Company; Wildorado Wind, LLC.

Description: Edison International submits Notice of Change in Status.

Filed Date: 10/30/2009.

Accession Number: 20091104-0002.

Comment Date: 5 p.m. Eastern Time on Friday, November 20, 2009.

Docket Numbers: ER06-455-002.

Applicants: Duquesne Power, LLC.

Description: Duquesne Power, LLC submits First Revised Sheet 1 et al. to Rate Schedule FERC No 1.

Filed Date: 10/26/2009.

Accession Number: 20091027-0006.

Comment Date: 5 p.m. Eastern Time on Monday, November 16, 2009.

Docket Numbers: ER07-496-002; ER00-1372-005.

Applicants: Alcoa Power Generating Inc., Alcoa Power Marketing LLC.

Description: Alcoa Power Generating Inc. and Alcoa Power Marketing LLC's Amendment to Updated Market Power Analysis for Continued Market-Based Rate Authority.

Filed Date: 10/30/2009.

Accession Number: 20091030-5146.

Comment Date: 5 p.m. Eastern Time on Friday, November 20, 2009.

Docket Numbers: ER07-758-018.

Applicants: Inland Empire Energy Center, LLC.

Description: Inland Empire Energy Center, LLC. Notice of Non-Material Change in Status.

Filed Date: 10/30/2009.

Accession Number: 20091030-5174.

Comment Date: 5 p.m. Eastern Time on Friday, November 20, 2009.

Docket Numbers: ER08-378-002; ER09-560-001.

Applicants: Covanta Delano, Inc.; Covanta Maine, LLC.

Description: Covanta Delano, Inc et al. submits Second Revised Sheet 1 et al. to No 1 FERC Electric Tariff, Revised Volume 1.

Filed Date: 10/20/2009.

Accession Number: 20091026-0017.

Comment Date: 5 p.m. Eastern Time on Tuesday, November 10, 2009.

Docket Numbers: ER08-609-002.

Applicants: Endure Energy, LLC.

Description: Notification of Change in Status of Endure Energy, LLC.

Filed Date: 10/30/2009.

Accession Number: 20091030-5158.

Comment Date: 5 p.m. Eastern Time on Friday, November 20, 2009.

Docket Numbers: ER08-656-006.

Applicants: Shell Energy North America (U.S.), L.P.

Description: Shell Energy North America (U.S.), L.P. Notice of Change in Status Sites for New Generation Capacity Development.

Filed Date: 10/30/2009.

Accession Number: 20091030-5118.

Comment Date: 5 p.m. Eastern Time on Friday, November 20, 2009.

Docket Numbers: ER08-1226-004; ER09-1320-001; ER03-1284-008; ER05-1202-008; ER09-1321-002; ER08-1225-005; ER05-1262-023; ER06-1093-019; ER07-407-007; ER06-1122-006; ER09-1323-002; ER09-1322-002; ER09-1481-001; ER07-522-006; ER08-1111-005; ER08-1227-004; ER09-1482-001; ER07-342-005; ER08-1228-003.

Applicants: High Trail Wind Farm, LLC, Blue Canyon Windpower II LLC, Old Trail Wind Farm, LLC, Telocaset Wind Power Partners, LLC, High Prairie Wind Farm II, LLC, Cloud County Wind Farm, LLC, Pioneer Prairie Wind Farm I, LLC, Sagebrush Power Partners, LLC, Arlington Wind Power Project LLC, Flat Rock Windpower LLC, Flat Rock Windpower II LLC, Rail Splitter Wind Farm, LLC, Blue Canyon Windpower LLC, Wheat Field Wind Power Project LLC, Lost Lakes Wind Farm LLC, Blue Canyon Windpower V LLC, Meadow Lake Wind Farm II LLC, Blackstone Wind Farm LLC, Meadow Lakes Wind Farm LLC.

Description: Notice of Non-Material Change in Status of Arlington Wind Power Project LLC, et al.

Filed Date: 10/30/2009.

Accession Number: 20091030-5132.

Comment Date: 5 p.m. Eastern Time on Friday, November 20, 2009.

Docket Numbers: ER08-1442-002; ER08-1323-003; ER09-1655-001; ER08-1382-001; ER08-1392-002.

Applicants: Fowler Ridge Wind Farm LLC, Flat Ridge Wind Energy, LLC, Fowler Ridge III Wind Farm LLC, Fowler Ridge II Wind Farm LLC.

Description: Report on Sites for New Generation Capacity Development.

Filed Date: 10/30/2009.

Accession Number: 20091030-5157.

Comment Date: 5 p.m. Eastern Time on Friday, November 20, 2009.

Docket Numbers: ER09-635-002.

Applicants: Southern Company Services, Inc.

Description: Southern Companies submits amendment to the Southern Operating Companies' Open Access Transmission Tariff.

Filed Date: 10/20/2009.

Accession Number: 20091027-0012.

Comment Date: 5 p.m. Eastern Time on Tuesday, November 10, 2009.

Docket Numbers: ER09-641-001.

Applicants: Southern Company Services, Inc.

Description: Southern Companies submits amendment to a network operating agreement associated with a network integration transmission service agreement by and between PowerSouth Energy Cooperative and Southern Companies.

Filed Date: 10/20/2009.

Accession Number: 20091027-0011.

Comment Date: 5 p.m. Eastern Time on Tuesday, November 10, 2009.

Docket Numbers: ER09-1381-001.

Applicants: Allegheny Energy Supply Company, LLC.

Description: Allegheny Energy Supply Company, LLC submits Substitute Original Sheet No 2B to FERC Electric Tariff, Second Revised Volume 1.

Filed Date: 10/19/2009.

Accession Number: 20091026-0018.

Comment Date: 5 p.m. Eastern Time on Monday, November 09, 2009.

Docket Numbers: ER09-1546-001.

Applicants: ISO New England Inc. & New England Power Pool.

Description: ISO New England, Inc submits 3rd Revised Sheet 7442 to FERC Electric Tariff 3 for Section III. A. 10 of Appendix A to Market Rule 1, Standard Market Design etc.

Filed Date: 10/30/2009.

Accession Number: 20091103-0171.

Comment Date: 5 p.m. Eastern Time on Friday, November 20, 2009.

Docket Numbers: ER09-1655-001.

Applicants: Fowler Ridge Wind Farm LLC, Flat Ridge Wind Energy, LLC, Fowler Ridge III Wind Farm LLC, Fowler Ridge II Wind Farm LLC.

Description: Report on Sites for New Generation Capacity Development.

Filed Date: 10/30/2009.

Accession Number: 20091030-5157.

Comment Date: 5 p.m. Eastern Time on Friday, November 20, 2009.

Docket Numbers: ER09-172-006; ER09-173-006; ER09-174-004; ER06-1355-006; ER09-1400-002; ER09-1549-002.

Applicants: Evergreen Wind Power, LLC, Canandaigua Power Partners, LLC, Evergreen Wind Power V, LLC, Canandaigua Power Partners II, LLC, Milford Wind Corridor Phase I, LLC, First Wind Energy Marketing, LLC.

Description: Report on Sites for New Generation Development.

Filed Date: 10/30/2009.

Accession Number: 20091030-5159.

Comment Date: 5 p.m. Eastern Time on Friday, November 20, 2009.

Docket Numbers: ER09-934-003.

Applicants: Bangor Hydro-Electric Company.

Description: Bangor Hydro-Electric Company submits filing to notify the Commission that, effective 11/1/09, it will be charging under Schedule 21—BHE revised transmission rates based on the corrected value.

Filed Date: 10/30/2009.

Accession Number: 20091102-0117

Comment Date: 5 p.m. Eastern Time on Friday, November 20, 2009.

Docket Numbers: ER10-115-000.

Applicants: Midwest Independent Transmission System Operator, Inc.

Description: Midwest Independent Transmission System Operator, Inc submits amended and restated facilities construction agreement among the Midwest ISO, et al.

Filed Date: 10/27/2009.

Accession Number: 20091028-0012.

Comment Date: 5 p.m. Eastern Time on Tuesday, November 17, 2009.

Docket Numbers: ER10-160-000.

Applicants: Southern California Edison Company.

Description: Southern California Edison Company submits Transmission Owner Tariff Construction Work in Progress Rate Filing.

Filed Date: 10/30/2009.

Accession Number: 20091102-0178.

Comment Date: 5 p.m. Eastern Time on Friday, November 20, 2009.

Docket Numbers: ER10-204-000.

Applicants: FSE Blythe 1, LLC.

Description: FSE Blythe 1, LLC submits application for order accepting initial market based rate tariffs, certain waivers and blanket approvals, and granting of Category 1 Status.

Filed Date: 10/30/2009.

Accession Number: 20091103-0110.

Comment Date: 5 p.m. Eastern Time on Friday, November 20, 2009.

Docket Numbers: ER10-205-000.

Applicants: Carolina Power & Light Company.

Description: Carolina Power & Light Co submits the First Amended and Restated Partial Requirements Service Agreement.

Filed Date: 10/30/2009.

Accession Number: 20091102-0182.

Comment Date: 5 p.m. Eastern Time on Friday, November 20, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-27482 Filed 11-16-09; 8:45 am]

BILLING CODE 6717-01-P